DEPARTMENT OF TRANSPORTATION

Federal Aviation Administration

[Docket No. FAA-2014-0510]

Implementation of Legislative Categorical Exclusion for Environmental Review of Performance Based Navigation Procedures

AGENCY: Federal Aviation Administration (FAA), DOT.

ACTION: Notice and request for public comment; Extension of comment period.

SUMMARY: The FAA is extending the comment period on its notice regarding the Implementation of Legislative Categorical Exclusion for Environmental Review of Performance Based Navigation Procedures that was published on August 19, 2014.

DATES: Comments must be received on or before October 20, 2014.

ADDRESSES: Send comments identified by “Docket Number FAA-2014-0510” using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Lynne S. Pickard, Senior Advisor for Environmental Policy, Office of Environment and Energy (AEE-6), Federal Aviation Administration, 800 Independence Avenue SW., Washington, DC 20591; telephone (202) 267-3577; email lynne.pickard@faa.gov.

SUPPLEMENTARY INFORMATION: The FAA published a notice in the Federal Register on August 19, 2014 (79 FR 49141) requesting comments on its implementation of Section 213(c)(2) of the FAA Modernization and Reform Act of 2012, which directs the FAA to issue and file a categorical exclusion for any navigation performance or other performance based navigation (PBN) procedure that would result in measureable reductions in fuel consumption, carbon dioxide emissions, and noise on a per flight basis as compared to aircraft operations that follow existing instrument flight rule procedures in the same airspace. In September 2012, the FAA tasked the NextGen Advisory Committee (NAC) for assistance, especially on how measurable reductions in noise on a per flight basis might be measured and assessed, and the NAC developed a Net Noise Reduction Method which it recommended to the FAA. The FAA's notice provides the public an opportunity to comment on the Net Noise Reduction Method and possible variations of it.

On August 29, 2014, Airports Council International—North America (ACI-NA) requested a 30-day extension of the comment period, citing a need to communicate with its membership and facilitate industry participation in providing the FAA with meaningful comments. The FAA agrees that facilitating industry participation in the development of comments would be helpful, and therefore has decided to extend the comment period until October 20, 2014. The FAA expects that the additional time for comments will allow the preparation of meaningful comments which will help the FAA in its consideration of interpretive guidance to implement Section 213(c)(2).

Issued in Washington, DC, on September 5, 2014.
Lourdes Q. Maurice,
Executive Director, Office of Environment and Energy, Federal Aviation Administration.

[FR Doc. 2014-21698 Filed 9-10-14; 8:45 am]

BILLING CODE 4910-13-P